DEPARTMENT OF THE INTERIOR

Fish and Wildlife Service

[FWS-R1-R-2011-N090; FXRS12650100000S3-123-FF01R06000]

Minidoka National Wildlife Refuge, Blaine, Cassia, Minidoka, and Power Counties, ID; Comprehensive Conservation Plan and Environmental Assessment

AGENCY: Fish and Wildlife Service, Interior.

ACTION: Notice of intent; request for comments.

SUMMARY: We, the U.S. Fish and Wildlife Service, intend to prepare a comprehensive conservation plan (CCP) for Minidoka National Wildlife Refuge. We will also prepare an environmental assessment (EA) to evaluate the potential effects of various CCP alternatives. We provide this notice in compliance with our CCP policy to advise the public, Federal and State agencies, and Tribes of our intentions, and to obtain public comments, suggestions, and information on the scope of issues to consider during the planning process.

DATES: To ensure consideration, please send your written comments by January 31, 2012. We will announce opportunities for public input in local news media throughout the CCP planning process.

ADDRESSES: Send your comments or requests for more information by any of the following methods.

Email: jeffrey_krueger@fws.gov. Include “Minidoka CCP/EA” in the subject line of the message.

Fax: Attn: Jeffrey Krueger, Refuge Manager, (208) 436-1570.

U.S. Mail: Jeffrey Krueger, Refuge Manager, Minidoka National Wildlife Refuge, 961 E Minidoka Dam Road, Rupert, ID 83350-9471.

In-Person Drop-off: You may drop off comments during regular business hours at 961 E Minidoka Dam Road, Rupert, ID 83350-9471.

FOR FURTHER INFORMATION CONTACT: Jeffrey Krueger, (208) 436-3589 (phone).

SUPPLEMENTARY INFORMATION:

Introduction

With this notice, we initiate our process for developing a CCP for the Minidoka Refuge. This notice complies with our CCP policy to (1) Advise other Federal and State agencies, Tribes, and the public of our intention to conduct detailed planning on this Refuge and (2) obtain suggestions and information on the scope of issues to consider in the EA and during development of the CCP.

Background

The CCP Process

The National Wildlife Refuge System Administration Act of 1966 (16 U.S.C. 668dd-668ee), as amended by the National Wildlife Refuge System Improvement Act of 1997 (Refuge Administration Act), requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities that may be available to the public, including opportunities for hunting, fishing, wildlife observation and photography, and environmental education and interpretation. We will review and update the CCP at least every 15 years in accordance with the Refuge Administration Act.

Each unit of the National Wildlife Refuge System was established for specific purposes. We use these purposes as the foundation for developing and prioritizing the management of goals and objectives for each refuge within the National Wildlife Refuge System mission, and to determine how the public can use each refuge. The planning process is a way for us and the public to evaluate management goals and objectives that will insure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of the Refuge.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Minidoka National Wildlife Refuge

The Refuge was established by President Theodore Roosevelt in 1909 for the purpose of serving as a refuge and breeding grounds for native birds. The Refuge is located 12 miles northeast of Rupert, ID, in the Snake River Plain, at approximately 4,200 feet in elevation. The area was historically comprised of a portion of the Snake River surrounded by an expansive sea of sagebrush, identified as the high desert. In 1904 the Bureau of Reclamation impounded the Snake River and created Lake Walcott to store water for irrigation, and provide hydroelectric power. The Refuge is primarily an overlay refuge superimposed over Bureau of Reclamation lands and waters.

The Refuge boundary extends upstream approximately 25 miles from the Minidoka Dam, along both shores of the Snake River. The Refuge encompasses approximately 20,700 acres; of that, 11,300 acres are the open waters of Lake Walcott and the Snake River, and 9,400 acres are upland sagebrush and grassland habitats. The large expanse of open water within the arid environment attracts numerous avian species, including waterfowl, shorebirds, and wading birds. The Service has documented 243 species of birds on the Refuge, of which 85 species are known to nest within the Refuge's boundaries.

Scoping: Preliminary Issues, Concerns, and Opportunities

We have identified preliminary issues, concerns, and opportunities that we may address in the CCP. We have briefly summarized these issues below. During public scoping, we may identify additional issues.

• What is the Refuge's role in conserving Snake River Plain wildlife and habitat?

• What are our options for preventing the introduction and dispersal of invasive plants and animals?

• What is the most appropriate Refuge land management strategy for providing contiguous and quality habitats for focal wildlife resources?

• How can we maintain, manage, and restore the Refuge's sagebrush, wetland, and upland habitats, to support the long-term viability of native wildlife populations, and maximize habitat values for key wildlife species?

• How can the Refuge adaptively manage habitat in response to the effects of climate change?

• How can we protect the Refuge's cultural and historical resources?

• What actions should we take to minimize disturbance to nesting and migrating waterbirds and other wildlife on the Refuge?

• How can we meet increasing demands for recreational opportunities on the Refuge, and conduct quality visitor services programs in a manner that protects wildlife from disturbances?

Public Meetings

We will involve the public through open houses, informational and technical meetings, and written comments. We will release mailings, news releases, and announcements to provide information about opportunities for public involvement in the planning process.

Public Availability of Comments

Before including your address, phone number, email address, or other personal identifying information in your comment, you should be aware that your entire comment—including your personal identifying information—may be made publicly available at any time. While you can ask us in your comment to withhold your personal identifying information from public review, we cannot guarantee that we will be able to do so.

Dated: October 28, 2011.
Richard R. Hannan,
Acting Regional Director, Region 1, Portland, Oregon.

[FR Doc. 2011-32589 Filed 12-19-11; 8:45 am]

BILLING CODE 4310-55-P